FEDERAL MARITIME COMMISSION

Sunshine Act Meeting

Time and Date: 10 a.m.—March 31, 2004.

place: 800 North Capitol Street, NW., First Floor Hearing Room, Washington, DC.

Status: A portion of the meeting will be open to the public and the remainder of the meeting will be closed.

Matters to be Considered: The open portion of the meeting:

1. Docket No. 04-02—Optional rider for proof of additional NVOCC financial responsibility.

The closed portion of the meeting:

1. Petition No. P3—99-Petition of China Ocean Shipping (Group) Company for a partial exemption from the Controlled Carrier Act.

2. Petition No. P4-03—Petition of China Shipping Container Lines Co., Ltd. for permanent full exemption from the first sentence of section 9(C) of the Shipping Act of 1984.

3. Petition No. P6-03—Petition of SINOTRANS Container Lines Co., Ltd. (SINOLINES) for a full exemption from the first sentence of section 9(c) of the Shipping Act of 1984, as amended.

4. Docket No. 98-14—Shipping restrictions, requirements and practices of the People's Republic of China.

Contact Person for More Information: Bryant L. VanBrakle, Secretary, (202) 523-5725.

Bryant L. VanBrakle,
Secretary.

[FR Doc. 04-6634 Filed 3-19-04; 3:13 pm]

BILLING CODE 6730-01-M